DEPARTMENT OF DEFENSE

Department of the Air Force

Air Force A-76 Initiatives Cost Comparisons and Direct Conversions (As of March 31, 2001)

The Air Force is in the process of conducting the following A-76 initiatives. Cost comparisons are public-private competitions. Direct conversions are functions that may result in a conversion to contract without public competition. These initiatives were announced and in-progress as of March 31, 2001, include the installation and state where the cost comparison or direct conversion is being performed, the total authorizations under study, public announcement date and actual or anticipated solicitation date. The following initiatives are in various stages of completion.

Installation | State | Function(s) | Total authorizations | Public announcement date | Solicitation issued or scheduled date
COST COMPARISONS
AVON PARK | FL | RANGE OPERATIONS | 38 | 22-Dec-99 | 01-Sep-01
BANN | GERMY | RANGE OPERATIONS AND MAINTENANCE | 0 | 19-Mar-01 | TBD
BEALE | CA | BASE OPERATING SUPPORT | 372 | 08-Sep-99 | 01-May-01
BOLLING | DC | SUPPLY AND TRANSPORTATION | 138 | 01-Dec-98 | 12-Sep-00
CARSWELL | TX | BASE OPERATING SUPPORT | 69 | 03-Feb-00 | 05-Jun-01
DAVIS MONTHAN | AZ | BASE SUPPLY | 35 | 04-Jan-00 | 16-Feb-01
EDWARDS | CA | BASE OPERATING SUPPORT | 435 | 09-Dec-98 | 04-May-00
EGLIN | FL | ADMINISTRATIVE SUPPORT | 37 | 22-Sep-99 | 26-Sep-00
EGLIN | FL | AIRCRAFT MAINTENANCE AND SUPPLY | 319 | 15-Sep-00 | 01-Jun-01
ELMENDORF | AK | COMMUNICATIONS OPERATIONS AND MAINTENANCE | 66 | 05-Jan-00 | 08-Nov-00
ELMENDORF | AK | BASE SUPPLY | 208 | 26-Mar-99 | 21-Apr-00
HANSCOM AFB | MA | CIVIL ENGINEERING | 201 | 09-Dec-98 | 25-Feb-00
HANSCOM AFB | MA | EDUCATION/TRAINING AND PERSONNEL | 17 | 25-Nov-98 | 20-Apr-00
HILL AFB | UT | BASE OPERATING SUPPORT | 569 | 30-Sep-98 | 30-Mar-01
HOLLOMAN AFB | NM | TEST TRACK | 125 | 18-Nov-99 | 23-Jan-01
HURLBURT COM FL | FL | COMMUNICATION FUNCTIONS | 50 | 31-Jul-98 | 15-Apr-01
HURLBURT COM FL | FL | ENVIRONMENTAL | 7 | 22-Jun-00 | 15-May-01
HURLBURT COM FL | FL | ADMINISTRATIVE SUPPORT | 33 | 28-Apr-99 | 02-Aug-01
HURLBURT COM FL | FL | HOUSING MANAGEMENT | 12 | 08-Jun-00 | 01-Jun-01
KEESLER | MS | MULTIPLE SUPPORT FUNCTIONS | 741 | 21-Sep-99 | 19-Dec-00
LACKLAND | TX | MULTIPLE SUPPORT FUNCTIONS | 1439 | 26-Jan-99 | 09-Aug-99
LANGLEY | VA | COMMUNICATION FUNCTIONS | 202 | 21-Mar-01 | 11-Jul-01
MAXWELL | AL | MULTIPLE SUPPORT FUNCTIONS | 814 | 28-Apr-98 | 22-Mar-99
MAXWELL | AL | EDUCATION SERVICES | 35 | 24-Jul-00 | 29-Sep-00
MULTIPLE INSTLNS |  | MULTIPLE SUPPORT FUNCTIONS | 65 | 14-Jul-99 | 31-Aug-01
CROUGHTON | UK
MOLESWORTH | UK
MULTIPLE INSTLNS |  | COMMUNICATION FUNCTIONS | 141 | 11-Mar-99 | 14-Apr-00
GENERAL MITCHELL | WI
WESTOVER | MA
MINN-ST PAUL | MN
YOUNGSTOWN | OH
WILLOW GROVE | PA
GRISSOM | IN
PITTSBURG | PA
MARCH | CA
HOMESTEAD | FL
CARSWELL | TX
NEW ORLEANS | LA
MULTIPLE INSTLNS |  | PERSONNEL SERVICES | 223 | 16-Jun-00 | 06-Jun-01
BARKSDALE | LA
CANNON | NM
DAVIS MONTHAN | AZ
DYESS | TX
ELLSWORTH | SD
HOLLOMAN | NM
KEFLAVIK | ICELD
LAJES | AZO
LANGLEY | VA
MINOT | ND
MOODY | GA
MOUNTAIN HOME | ID
NELLIS | NV
SEYMOUR-JOHNSON | NC
SHAW | SC
WHITEMAN | MO
MULTIPLE INSTLNS |  | TRANSIENT AIRCRAFT MAINTENANCE | 24 | 07-Jul-99 | 05-Mar-01
RAMSTEIN | GERMY
SPANGDAHLEM | GERMY
MULTIPLE INSTLNS |  | EDUCATION SERVICES | 73 | 17-Aug-00 | 16-Jul-01
ANDERSEN | GUAM
EIELSON | AK
ELMENDORF | AK
HICKAM | HI
KADENA | JA
KUNSAN | KR
MISAWA | JA
OSAN | KR
YOKOTA | JA
NEW BOSTON | NH | BASE OPERATING SUPPORT | 48 | 03-Dec-97 | 21-Mar-01
NEW ORLEANS NAS | LA | BASE OPERATING SUPPORT | 45 | 03-Feb-00 | 01-Jun-01
OFFUTT | NE | BASE OPERATING SUPPORT | 1568 | 30-Sep-98 | 28-Feb-01
PATRICK | FL | SUPPLY AND TRANSPORTATION | 43 | 14-May-98 | 18-Sep-00
PETERSON | CO | PERSONNEL SERVICES | 90 | 05-Jan-00 | 16-Feb-01
RANDOLPH | TX | MULTIPLE SUPPORT FUNCTIONS | 1224 | 14-Sep-00 | 10-Oct-01
ROBINS | GA | EDUCATION SERVICES | 67 | 07-Jan-99 | 17-Aug-00
ROBINS | GA | ENVIRONMENTAL | 49 | 07-Jun-00 | 20-May-01
ROBINS | GA | BASE SUPPLY | 131 | 01-Apr-99 | 19-Dec-00
SCOTT | IL | PERSONNEL SERVICES | 236 | 25-Jun-99 | 22-Mar-01
SEMBACH | GERMY | COMMUNICATION FUNCTIONS | 48 | 18-Dec-98 | 28-Feb-01
SHEPPARD | TX | MULTIPLE SUPPORT FUNCTIONS | 549 | 21-Sep-99 | 29-Jun-00
TRAVIS | CA | VEHICLE OPERATIONS AND MAINTENANCE | 131 | 15-Jul-98 | 24-Aug-00
USAF ACADEMY | CO | COMMUNICATION FUNCTIONS | 114 | 20-May-99 | 27-Jan-01
USAF ACADEMY | CO | SUPPLY AND TRANSPORTATION | 117 | 08-May-98 | 09-May-00
USAF ACADEMY | CO | CIVIL ENGINEERING | 496 | 01-Dec-98 | 24-Mar-00
VANDENBERG AFB | CA | MISSILE STORAGE & MAINTENANCE | 66 | 25-Oct-00 | 27-Apr-01
WHITEMAN | MO | UTILITIES PLANT | 11 | 18-Aug-99 | 01-Jun-00
DIRECT CONVERSIONS
BOLLING | DC | EDUCATION/TRAINING AND PERSONNEL | 12 | 01-May-00 | 13-Apr-01
COLUMBUS | MS | SURVIVAL EQUIPMENT | 29 | 18-Apr-00 | 15-Apr-01
HICKAM | HI | COMMUNICATIONS OPERATIONS AND MAINTENANCE | 48 | 07-Nov-00 | 18-May-01
HICKAM | HI | FURNISHINGS MANAGEMENT | 11 | 27-Jun-00 | 06-Jul-01
HOLLOMAN AFB | NM | MILITARY FAMILY HOUSING MAINTENANCE | 66 | 12-May-97 | 09-Nov-00
LANGLEY | VA | COMMUNICATIONS ADMINISTRATION AND INFORMATION FUNCTION | 13 | 31-Jan-00 | 02-Apr-01
LANGLEY | VA | COMMUNICATION FUNCTIONS | 8 | 23-Mar-99 | 11-Jul-01
LANGLEY | VA | DATA PROCESSING EQUIPMENT OPERATIONS | 15 | 04-Nov-99 | 02-Apr-01
MCGUIRE | NJ | FURNISHINGS MANAGEMENT | 2 | 14-May-99 | 13-Oct-00
MULTIPLE INSTLNS |  | ENVIRONMENTAL | 49 | 27-Sep-00 | 20-Jul-01
BARKSDALE | LA
CANNON | NM
DAVIS MONTHAN | AZ
ELLSWORTH | SD
HOLLOMAN | NM
LANGLEY | VA
MINOT | ND
MOODY | GA
MOUNTAIN HOME | ID
NELLIS | NV
SEYMOUR-JOHNSON | SC
WHITEMAN | MO
MULTIPLE INSTLNS |  | ADMINISTRATIVE SUPPORT | 67 | 08-Aug-00 | 17-Jul-01
ANDERSEN | GUAM
EIELSON | AK
ELMENDORF | AK
HICKAM | HI
KADENA | JA
KUNSAN | KR
MISAWA | JA
OSAN | KR
YOKOTA | JA
OFFUTT | NE | SOFTWARE PROGRAMMING | 10 | 09-Mar-01 | 30-Apr-02
OFFUTT | NE | SOFTWARE PROGRAMMING | 9 | 09-Mar-01 | 30-Apr-02
OFFUTT | NE | SOFTWARE PROGRAMMING | 10 | 09-Mar-01 | 30-Apr-02
OFFUTT | NE | COMMUNICATION FUNCTIONS | 13 | 17-Nov-00 | 29-Jun-01
RAF FELTWELL | UK | PRECISION MEASUREMENT EQUIPMENT LABORATORY (PMEL) | 76 | 08-Jan-01 | 24-Aug-01
ROBINS | GA | AIRFIELD MANAGEMENT | 10 | 06-Jun-00 | 24-May-01
ROBINS | GA | PROTECTIVE COATING | 8 | 18-Jan-00 | 15-May-01
SCHRIEVER | CO | FOOD SERVICES | 18 | 02-Sep-99 | 02-Mar-01
SCOTT | IL | FURNISHINGS MANAGEMENT | 3 | 18-Sep-00 | 22-Feb-02
SCOTT | IL | ADMINISTRATIVE SWITCHBOARD | 85 | 05-Aug-99 | 16-Mar-01
SHAW | SC | RAILROAD TRANSPORTATION SERVICES | 2 | 02-Oct-00 | 29-Jan-01
SHAW | SC | COMMUNICATION FUNCTIONS | 3 | 18-May-99 | 19-Apr-01
TINKER | OK | SOFTWARE PROGRAMMING | 67 | 08-May-00 | 01-Jun-01
TINKER | OK | COMMUNICATION FUNCTIONS | 70 | 08-Jan-01 | 03-Oct-01
VANDENBERG AFB | CA | AIR TRAFFIC CONTROL | 8 | 09-Mar-01 | 01-Dec-01
VANDENBERG AFB | CA | BASE WEATHER OBSERVING | 10 | 02-Mar-01 | 01-Dec-01

Janet A. Long,
Air Force Federal Register Liaison Officer.

[FR Doc. 01-11868 Filed 5-10-01; 8:45 am]

BILLING CODE 5001-05-U